DEPARTMENT OF THE INTERIOR

Fish and Wildlife Service

[FWS-R9-MB-2008-N0155] [91100-3740-GRNT-7C]

Proposed Information Collection; OMB Control Number 1018-0113; Neotropical Migratory Bird Conservation Act (NMBCA) Grant Programs

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on December 31, 2008. We may not conduct or sponsor and a person is not required to respond to a collection of information unless it displays a currently valid OMB control number.

DATES: You must submit comments on or before August 25, 2008.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this ICR, contact Hope Grey by mail, fax, or e-mail (see ADDRESSES) or by telephone at (703) 358-2482.

SUPPLEMENTARY INFORMATION:

I. Abstract

The NMBCA establishes a matching grants program to fund projects that promote the conservation of neotropical migratory birds in the United States, Canada, Latin America, and the Caribbean. The purposes of NMBCA are to:

(1) Perpetuate healthy populations of neotropical migratory birds;

(2) Assist in the conservation of these birds by supporting conservation initiatives in the United States, Canada, Latin America, and the Caribbean; and

(3) Provide financial resources and foster international cooperation for those initiatives.

Principal conservation actions supported by NMBCA are:

(1) Protection and management of neotropical migratory bird populations.

(2) Maintenance, management, protection, and restoration of neotropical migratory bird habitat.

(3) Research and monitoring.

(4) Law enforcement.

(5) Community outreach and education.

We publish notices of funding availability on the Grants.gov website (http://www.grants.gov) as well as in the Catalog of Federal Domestic Assistance (http://cfda.gov). To compete for grant funds, partnerships submit applications that describe in substantial detail project locations, project resources, future benefits, and other characteristics that meet the standards established by the Fish and Wildlife Service and the requirements of NMBCA.

Materials that describe the program and assist applicants in formulating project proposals for consideration are available on our website at http://www.fws.gov/birdhabitat. Persons who do not have access to the Internet may obtain instructional materials by mail. We have not made any major changes in the scope and general nature of the instructions since the OMB first approved the information collection in 2002.

II. Data

OMB Control Number: 1018-0113.

Title: Neotropical Migratory Bird Conservation Act (NMBCA) Grant Programs.

Service Form Number(s): None.

Type of Request: Extension of currently approved collection.

Affected Public: (1) an individual, corporation, partnership, trust, association, or other private entity; (2) an officer, employee, agent, department, or instrumentality of any State, municipality, or political subdivision of a State, or of any foreign government: (3) a State, municipality, or political subdivision of a State; (4) any other entity subject to the jurisdiction of the United States or of any foreign country; and (5) an international organization.

Respondent's Obligation: Required to obtain or retain a benefit.

Frequency of Collection: On occasion. This grants program has one project proposal submission per year. Annual reports are due 90 days after the anniversary date of the grant agreement. Final reports are due 90 days after the end of the project period. The project period is up to 2 years.

Activity | Number of annual respondents | Number of annual responses | Completion time per response | Annual burden hours
Grant Applications | 160 | 160 | 70 hours | 11,200
Reports | 60 | 60 | 30 hours | 1,800
Totals | 220 | 220 |  | 13,000

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: June 11, 2008
Hope Grey,
Information Collection Clearance Officer, Fish and Wildlife Service.

[FR Doc. E8-14225 Filed 6-23-08; 8:45 am]

BILLING CODE 4310-55-S